DEPARTMENT OF TRANSPORTATION

Federal Aviation Administration

Notice of Availability of a Final Environmental Assessment (Final EA) and a Finding of No Significant Impact (FONSI)/Record of Decision (ROD) for a Proposed Airport Traffic Control Tower and Base Building at University of Illinois Willard Airport, Savoy, IL

AGENCY: Federal Aviation Administration (FAA), DOT.

ACTION: Notice of Availability of a Final Environmental Assessment (Final EA) and Finding of No Significant Impact (FONSI)/Record of Decision (ROD) for a Proposed Airport Traffic Control Tower and Base Building at University of Illinois Willard Airport, Savoy, Illinois.

SUMMARY: The Federal Aviation Administration (FAA) is issuing this notice to advise the public that the FAA has prepared, and approved on August 8, 2011, a Finding of No Significant Impact (FONSI)/Record of Decision (ROD) based on the Final Environmental Assessment (Final EA) for a Proposed Airport Traffic Control Tower (ATCT) with Associated Base Building at University of Illinois Willard Airport (CMI), Savoy, Illinois. The FAA prepared the Final EA in accordance with the National Environmental Policy Act and the FAA's regulations and guidelines for environmental documents and was signed on July 18, 2011. Copies of the FONSI/ROD and/or Final EA are available by contacting Ms. Virginia Marcks through the contact information provided below.

FOR FURTHER INFORMATION CONTACT: Ms. Virginia Marcks, Manager, Infrastructure Engineering Center, AJW-C14D, Federal Aviation Administration, 2300 East Devon Avenue, Des Plaines, Illinois 60018. Telephone number: (847) 294-7494.

SUPPLEMENTARY INFORMATION: The Final EA evaluated the construction and operation of a new ATCT and Base Building at CMI. The ATCT will be located approximately 660 feet east of the existing ATCT facility on vacant land located on airport property. The ATCT facility will occupy approximately 5.5 acres, and is 744 feet above mean sea level. The ATCT would be accessed via a realigned airport access road and is located in the east-central portion of the airport, approximately 2,150 feet east of the Runway 14L-32R and Runway 4-22 intersection. The new ATCT will be a Low Activity Level facility with a 440 square foot cab and will be at an overall height of 130 feet above ground level. The new ATCT will enhance controllers' visibility from the tower cab and will provide sufficient space to improve operational efficiency. The Base Building will be of sufficient size for administrative space requirements and will be able to accommodate state-of-the-art equipment upgrades. The project also includes, and the Final EA evaluated, construction of a paved parking area next to the Base Building; site work, including realignment of an airport access road, grading, drainage, utilities, and fencing; replacement of the 8 element V-Ring antenna on the Runway 32R instrument landing system with a 14-element LPD antenna array and relocate 55 feet to the northwest; Dopplerization of the Very High Frequency Omnidirectional Range with Tactical Air Navigation facility; unconditional approval of the revised Airport Layout Plan; and Federal funding of the project.

The Final EA has been prepared in accordance with the National Environmental Policy Act (NEPA) of 1969, as amended, and FAA Order 1050.1E, “Environmental Impacts: Policies and Procedures.” In addition, FAA Order 5050.4B, “National Environmental Policy Act (NEPA) Implementing Instructions for Airport Actions” has been used as guidance in the preparation of the environmental analysis.

Issued in Des Plaines, Illinois, on August 22, 2011.
Virginia Marcks,
Manager, Infrastructure Engineering Center, Chicago, AJW-C14D, Federal Aviation Administration.

[FR Doc. 2011-22463 Filed 8-31-11; 8:45 am]

BILLING CODE 4910-13-P